DEPARTMENT OF ENERGY

Federal Energy Regulatory Commission

Combined Notice of Filings #1

Take notice that the Commission received the following electric rate filings:

Docket Numbers: ER10-2290-007.

Applicants: Avista Corporation.

Description: Second Amendment to July 1, 2019 Triennial Market Power Update for the Northwest Region of Avista Corporation.

Filed Date: 12/13/19.

Accession Number: 20191213-5059.

Comments Due: 5 p.m. ET 1/3/20.

Docket Numbers: ER19-1920-002.

Applicants: Tampa Electric Company.

Description: Compliance filing: Second Compliance Filing under Order Nos. 845 and 845A to be effective 5/22/2019.

Filed Date: 12/12/19.

Accession Number: 20191212-5163.

Comments Due: 5 p.m. ET 1/2/20.

Docket Numbers: ER19-460-004.

Applicants: Southwest Power Pool, Inc.

Description: Compliance filing: Second Request for Deferral of Effective Date—Order No. 841 Compliance Filing to be effective N/A.

Filed Date: 12/12/19.

Accession Number: 20191212-5165.

Comments Due: 5 p.m. ET 1/2/20.

Docket Numbers: ER20-313-001.

Applicants: Sun Streams 2, LLC.

Description: Tariff Amendment: Amended Certificate of Concurrence for Shared Facilities Agreement to be effective 11/6/2019.

Filed Date: 12/13/19.

Accession Number: 20191213-5142.

Comments Due: 5 p.m. ET 1/3/20.

Docket Numbers: ER20-314-001.

Applicants: Sun Streams 4, LLC.

Description: Tariff Amendment: Amended Certificate of Concurrence for Shared Facilities Agreement to be effective 11/6/2019.

Filed Date: 12/13/19.

Accession Number: 20191213-5145.

Comments Due: 5 p.m. ET 1/3/20.

Docket Numbers: ER20-316-001.

Applicants: Sun Streams PVS, LLC.

Description: Tariff Amendment: Amended Certificate of Concurrence for Shared Facilities Agreement to be effective 11/6/2019.

Filed Date: 12/13/19.

Accession Number: 20191213-5149.

Comments Due: 5 p.m. ET 1/3/20.

Docket Numbers: ER20-317-001.

Applicants: Sun Streams Expansion, LLC.

Description: Tariff Amendment: Amended Certificate of Concurrence for Shared Facilities Agreement to be effective 11/6/2019.

Filed Date: 12/13/19.

Accession Number: 20191213-5146.

Comments Due: 5 p.m. ET 1/3/20.

Docket Numbers: ER20-587-000.

Applicants: PPL Electric Utilities Corporation, PJM Interconnection, L.L.C.

Description: § 205(d) Rate Filing: PPL Electric Utilities Corporation submits revised IA SA No. 941 to be effective 11/5/2019.

Filed Date: 12/12/19.

Accession Number: 20191212-5164.

Comments Due: 5 p.m. ET 1/2/20.

Docket Numbers: ER20-588-000.

Applicants: Midcontinent Independent System Operator, Inc.

Description: § 205(d) Rate Filing: 2019-12-12_Storage As Transmission Only Asset (SATOA) to be effective 3/11/2020.

Filed Date: 12/12/19.

Accession Number: 20191212-5170.

Comments Due: 5 p.m. ET 1/2/20.

Docket Numbers: ER20-589-000.

Applicants: Florida Power & Light Company.

Description: § 205(d) Rate Filing: FPL-City of NSB Revisions to Original Service Agreement No. 311 to be effective 1/1/2020.

Filed Date: 12/12/19.

Accession Number: 20191212-5191.

Comments Due: 5 p.m. ET 1/2/20.

Docket Numbers: ER20-590-000.

Applicants: Niagara Mohawk Power Corporation, New York Independent System Operator, Inc.

Description: § 205(d) Rate Filing: Cost Reimbursement Agreement (SA 2499) Niagara Mohawk and Northbrook Lyons Falls to be effective 11/15/2019.

Filed Date: 12/13/19.

Accession Number: 20191213-5005.

Comments Due: 5 p.m. ET 1/3/20.

Docket Numbers: ER20-591-000.

Applicants: Tampa Electric Company.

Description: § 205(d) Rate Filing: Second Revised Rate Schedule FERC No. 7—Interconnection Agreement w FPL to be effective 1/1/2020.

Filed Date: 12/13/19.

Accession Number: 20191213-5050.

Comments Due: 5 p.m. ET 1/3/20.

Docket Numbers: ER20-592-000.

Applicants: PJM Interconnection, L.L.C.

Description: § 205(d) Rate Filing: Amendment to WMPA, SA No. 5147; Queue No. AD1-144 (amend) to be effective 6/15/2018.

Filed Date: 12/13/19.

Accession Number: 20191213-5056.

Comments Due: 5 p.m. ET 1/3/20.

Docket Numbers: ER20-593-000.

Applicants: Isabella Wind, LLC.

Description: § 205(d) Rate Filing: Isabella Wind LLC SFA Filing to be effective 2/10/2020.

Filed Date: 12/13/19.

Accession Number: 20191213-5058.

Comments Due: 5 p.m. ET 1/3/20.

Docket Numbers: ER20-594-000.

Applicants: PJM Interconnection, L.L.C.

Description: § 205(d) Rate Filing: Second Revised ISA No. 2530; Queue No. AE2-273/AE2-274 to be effective 11/13/2019.

Filed Date: 12/13/19.

Accession Number: 20191213-5082.

Comments Due: 5 p.m. ET 1/3/20.

Docket Numbers: ER20-595-000.

Applicants: Midcontinent Independent System Operator, Inc.

Description: § 205(d) Rate Filing: 2019-12-13_Solar Dispatchable Intermittent Resources Filing to be effective 3/15/2020.

Filed Date: 12/13/19.

Accession Number: 20191213-5130.

Comments Due: 5 p.m. ET 1/3/20.

Docket Numbers: ER20-596-000.

Applicants: California Independent System Operator Corporation

Description: § 205(d) Rate Filing: 2019-12-13 EIM Implementation Agreement with Tucson Electric Power Company to be effective 4/1/2020.

Filed Date: 12/13/19.

Accession Number: 20191213-5148.

Comments Due: 5 p.m. ET 1/3/20.

Docket Numbers: ER20-597-000.

Applicants: ITC Midwest LLC.

Description: § 205(d) Rate Filing: Filing of Pole Attachment Agreement with ADM to be effective 2/12/2020.

Filed Date: 12/13/19.

Accession Number: 20191213-5168.

Comments Due: 5 p.m. ET 1/3/20.

Docket Numbers: ER20-598-000.

Applicants: Midcontinent Independent System Operator, Inc., Duke Energy Indiana, LLC

Description: § 205(d) Rate Filing: 2019-12-13_Duke Indiana Depreciation Rate Filing to be effective 2/12/2020.

Filed Date: 12/13/19.

Accession Number: 20191213-5171.

Comments Due: 5 p.m. ET 1/3/20.

Take notice that the Commission received the following qualifying facility filings:

Docket Numbers: QF18-452-000.

Applicants: North American Natural Resources, Inc.

Description: Response of North American Natural Resources to November 12, 2019 letter requesting additional information.

Filed Date: 12/12/19.

Accession Number: 20191212-5208.

Comments Due: 5 p.m. ET 1/2/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2019.
Nathaniel J. Davis, Sr.,
Deputy Secretary.

[FR Doc. 2019-27493 Filed 12-19-19; 8:45 am]

BILLING CODE 6717-01-P